NATIONAL TRANSPORTATION SAFETY BOARD

Sunshine Act Meeting; Agenda

Time and Date: 9:30 a.m., Wednesday, January 28, 2009.

Place: NTSB Conference Center, 429 L'Enfant Plaza SW., Washington, DC 20594.

Status: The two items are open to the public.

Matters To Be Considered:

8077 Aviation Accident Report—Midair Collision of Electronic News Gathering (ENG) Helicopters, KTVK-TV, Eurocopter AS350B2, N613TV, and U.S. Helicopters, Inc., Eurocopter AS350B2, N215TV, Phoenix, Arizona, July 27, 2007.

7943A Aircraft Accident (Summary) Report—In-ifight Fire, Emergency Descent and Crash in a Residential Area, Cessna 310R, N501N, Sanford, Florida, July 10, 2007.

News Media Contact: Telephone: (202) 314-6100.

Individuals requesting specific accommodations should contact Rochelle Hall at (202) 314-6305 by Friday, January 23, 2008.

The public may view the meeting via a live or archived webcast by accessing a link under “News & Events” on the NTSB home page at www.ntsb.gov.

FOR FURTHER INFORMATION CONTACT: Vicky D'Onofrio, (202) 314-6410.

Dated: January 12, 2009.
Vicky D'Onofrio,
Federal Register Liaison Officer.

[FR Doc. E9-1619 Filed 1-26-09; 8:45 am]

BILLING CODE 7533-01-P